ENVIRONMENTAL PROTECTION AGENCY

[EPA-HQ-OECA-2006-0749; FRL-8320-5]

Agency Information Collection Activities; Submission to OMB for Review and Approval; Comment Request; NESHAP for Chromium Emissions from Hard and Decorative Chromium Electroplating and Chromium Anodizing (Renewal); EPA ICR Number 1611.06, OMB Control Number 2060-0327

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on, or before July 2, 2007.

ADDRESSES: Submit your comments, referencing docket ID number EPA-HQ-OECA-2006-0749, to (1) EPA online using www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On October 6, 2006 (71 FR 58853), EPA sought comments on this ICR pursuant to 5 CFR 1320.8(d). EPA received no comments. Any additional comments on this ICR should be submitted to EPA and OMB within 30 days of this notice.

EPA has established a public docket for this ICR under docket ID number EPA-HQ-OECA-2006-0749, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically, or in paper, will be made available for public viewing at http://www.regulations.gov, as EPA receives them and without change, unless the comment contains copyrighted material, CBI, or other information whose public disclosure is restricted by statute. For further information about the electronic docket, go to www.regulations.gov.

Title: NESHAP for Chromium Emissions From Hard and Decorative Chromium Electroplating and Chromium Anodizing (Renewal).

ICR Numbers: EPA ICR Number 1611.06, OMB Control Number 2060-0327.

ICR Status: This ICR is scheduled to expire on June 30, 2007. Under OMB regulations, the Agency may continue to conduct, or sponsor the collection of information while this submission is pending at OMB. An Agency may not conduct, or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The national emission standards for hazardous air pollutants (NESHAP) using maximum achievable control technology (MACT) for control of chromium emissions from hard and decorative chromium electroplating and chromium anodizing tanks were proposed on December 16, 1993 and promulgated on January 25, 1995.

In general, all NESHAP standards require initial notifications, performance tests, and periodic reports. Respondents that are not required to conduct an initial performance test (i.e., decorative chromium electroplating, or chromium anodizing operations that use a wetting agent and meet the surface tension limit required by the rule, and decorative chromium electroplating operations that use a trivalent chromium bath) are required to notify the Administrator of the initial compliance status of the source. Owners, or operators also are required to maintain records of a source's operations, including the occurrence and duration of any startup, shutdown, or malfunction in the operation of an affected facility, or any period during which the monitoring system is inoperative. The types of reports required by these standards include initial compliance status reports. Periodic reports required by this standard include annual compliance status reports for area sources and semiannual compliance status reports for major sources, unless an exceedance has occurred which requires sources to submit such reports on a more frequent basis. These notifications, reports, and records are essential in determining compliance, and are required of all sources subject to NESHAP standards.

Any owner, or operator subject to the provisions of this part shall maintain a file of these measurements, and retain the file for at least five years following the date of such measurements, maintenance reports, and records. All reports are sent to the delegated state, or local authority. In the event that there is no such delegated authority, the reports are sent directly to the United States Environmental Protection Agency (EPA) regional office.

Burden Statement: The annual public reporting and recordkeeping burden for this collection of information is estimated to average 83 hours per response. Burden means the total time, effort, or financial resources expended by persons to generate, maintain, retain, or disclose, or provide information to, or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit, or otherwise disclose the information.

Respondents/Affected Entities: Operators of hard chromium electroplating, decorative chromium electroplating, and chromium anodizing facilities/chromium electroplating, or chromium anodizing tanks.

Estimated Number of Respondents: 5,020.

Frequency of Response: Initially, quarterly, semiannually, annually.

Total Annual Hour Burden: 495,774 hours.

Estimated Total Annual Cost: $106,662,892, of which $75,300,000 accounts for annual O&M costs and $31,362,892 are labor costs. There are no annualized capital/startup costs associated with this ICR.

Changes in the Estimates: There is no change in the labor hours or cost in this ICR compared to the previous ICR. This is due to two considerations. First, the regulations have not changed over the past three years and are not anticipated to change over the next three years. Second, the growth rate for the industry is very low, so there is no significant change in the overall burden.

Because there are no changes in the regulatory requirements and there is no significant industry growth, the labor hours and cost figures in the previous ICR are used in this ICR to estimate the industry and Federal Government burdens. There is one exception: The burden associated with regulators attending performance tests was deleted because that activity is considered part of the implementation of the enforcement program and cannot be attributed to this rule.

Dated: May 23, 2007.
Sara Hisel-McCoy,
Acting Director; Collection Strategies Division.

[FR Doc. E7-10521 Filed 5-30-07; 8:45 am]

BILLING CODE 6560-50-P